DEPARTMENT OF HEALTH AND HUMAN SERVICES

Centers for Disease Control and Prevention

Office for State, Tribal, Local and Territorial Support (OSTLTS); Meeting and Tribal Consultation Session

In accordance with Presidential Executive Order No. 13175, November 6, 2000, and the Presidential Memorandum of November 5, 2009, and September 23, 2004, Consultation and Coordination with Indian Tribal Governments, CDC/Agency for Toxic Substances and Disease Registry (ATSDR), announces the following meeting and Tribal Consultation Session:

Name: Tribal Advisory Committee (TAC) Meeting and 14th Biannual Tribal Consultation Session.

Times and Dates

8:00 a.m.-5:00 p.m., February 9, 2016 (TAC Meeting)

8:00 a.m.-5:00 p.m., February 10, 2016 (TAC Meeting & 14th Biannual Tribal Consultation Session)

Place: The TAC Meeting and Tribal Consultation Session will be held at CDC Headquarters, 1600 Clifton Road NE., Global Communications Center, Auditorium B3, Atlanta, Georgia 30329-4027.

Status: The meetings are being hosted by CDC/ATSDR in-person only and are open to the public. Attendees must pre-register for the event by Wednesday, January 6, 2016, at the following link: http://www.cdc.gov/tribal/meetings.html.

Purpose: The purpose of these recurring meetings is to advance CDC/ATSDR support for and collaboration with tribes, and to improve the health of tribes by pursuing goals that include assisting in eliminating the health disparities faced by Indian Tribes; ensuring that access to critical health and human services and public health services is maximized to advance or enhance the social, physical, and economic status of American Indian/Alaska Native (AI/AN) people; and promoting health equity for all AI/AN people and communities. To advance these goals, CDC/ATSDR conducts government-to-government consultations with elected tribal officials or their authorized representatives. Consultation is an enhanced form of communication that emphasizes trust, respect, and shared responsibility. It is an open and free exchange of information and opinion among parties that leads to mutual understanding and comprehension.

Matters for Discussion: The TAC and CDC leaders' discussions will include the following public health topics: Adverse childhood experiences, e-cigarettes, motor vehicle-related injury prevention, and CDC's budget.

During the 14th Biannual Tribal Consultation Session, tribes and CDC leaders will engage in a listening session with CDC's director and roundtable discussions with CDC senior leaders. Tribes will also have an opportunity to present testimony about tribal health issues.

Tribal leaders are encouraged to submit written testimony by January 8, 2016, to Alleen R. Weathers, Public Health Advisor for the Tribal Support Unit, OSTLTS, via mail to 4770 Buford Highway NE., MS E-70, Atlanta, Georgia, 30341-3717, or email TribalSupport@cdc.gov.

Based on the number of tribal leaders giving testimony and the time available, it may be necessary to limit the time for each presenter.

The agenda is subject to change as priorities dictate.

Information about the TAC, CDC/ATSDR's Tribal Consultation Policy, and previous meetings can be found at the following Web link: http://www.cdc.gov/tribal.

Contact person for more information: Alleen R. Weathers, Public Health Advisor, CDC/OSTLTS, 4770 Buford Highway NE., MS E-70, Atlanta, Georgia 30341-3717; email: alleen.weathers@cdc.hhs.gov.

The Director, Management Analysis and Services Office, has been delegated the authority to sign Federal Register notices pertaining to announcements of meetings and other committee management activities, for both the Centers for Disease Control and Prevention, and the Agency for Toxic Substances and Disease Registry.

Elaine L. Baker,
Director, Management Analysis and Services Office, Centers for Disease Control and Prevention.

[FR Doc. 2015-30357 Filed 11-30-15; 8:45 am]

BILLING CODE 4163-18-P